DEPARTMENT OF THE TREASURY

Submission for OMB Review; Comment Request

January 10, 2011.

The Department of the Treasury will submit the following public information collection requirement to OMB for review and clearance under the Paperwork Reduction Act of 1995, Public Law 104-13 on or after the date of publication of this notice. A copy of the submission may be obtained by calling the Treasury Bureau Clearance Officer listed. Comments regarding these information collections should be addressed to the OMB reviewer listed and to the Treasury PRA Clearance Officer, Department of the Treasury, 1750 Pennsylvania Avenue, NW., Suite 11010, Washington, DC 20220.

DATES: Written comments should be received on or before February 14, 2011 to be assured of consideration.

Internal Revenue Service (IRS)

OMB Number: 1545-1623.

Type of Review: Extension without change to a currently approved collection.

Title: REG-246256-96 (Final) Excise Taxes on Excess Benefit Transactions

Abstract: The rule affects organizations described in Internal Revenue Code section 501(c)(3) and (4) applicable tax-exempt organizations). The collection of information entails obtaining and relying on appropriate comparability data and documenting the basis of an organization's determination that compensation is reasonable, or a property transfer (or transfer of the right to use property) is at fair market value. These actions comprise two of the requirements specified in the legislative history for obtaining the rebuttable presumption of reasonableness.

Respondents: Private Sector: Not-for-profit institutions.

Estimated Total Burden Hours: 910,083 hours.

OMB Number: 1545-2182.

Type of Review: Extension without change to a currently approved collection.

Title: REG-125592-10, Affordable Care Act Internal Claims and Appeals and External review Disclosures.

Abstract: Section 2719 of the Public Health Service Act, incorporated into Code section 9815 by section 1563(f) of the Patient Protection and Affordable Care Act, Public Law 111-148, requires group health plans and issuers of group health insurance coverage, in connection with internal appeals of claims denials, to provide claimants free of charge with any evidence relied upon in deciding the appeal that was not relied on in making the initial denial of the claim. This is a third party disclosure requirement. Individuals appealing a denial of a claim should be able to respond to any new evidence the plan or issuer relies on in the appeal, and this disclosure requirement is essential so that the claimant knows of the new evidence.

Respondents: Private Sector: Businesses or other for-profits.

Estimated Total Burden Hours: 150 hours.

OMB Number: 1545-1010.

Type of Review: Extension without change to a currently approved collection.

Title: U.S. Income Tax Return for Regulated Investment Companies.

Form: 1120-RIC.

Abstract: Form 1120-RIC is filed by a domestic corporation electing to be taxed as a RIC in order to report its income and deductions and to compute its tax liability. IRC uses Form 1120-RIC to determine whether the RIC has correctly reported its income, deductions, and tax liability.

Respondents: Private Sector: Businesses or other for-profits.

Estimated Total Burden Hours: 369,021 hours.

OMB Number: 1545-1186.

Type of Review: Extension without change to a currently approved collection.

Title: Form 8825—Rental Real Estate Income and Expense of a Partnership or an S Corporation.

Form: 8825.

Abstract: Form 8825 is used to verify that partnerships and S corporations have correctly reported their income and expenses from rental real estate property. The form is filed with either Form 1065 or Form 1120S.

Respondents: Private Sector: Businesses or other for-profits.

Estimated Total Burden Hours: 6,288,600 hours.

OMB Number: 1545-0971.

Type of Review: Extension without change to a currently approved collection.

Title: Estimated Income Tax for Estates and Trusts.

Form: 1041-ES, 1041-ES (PR).

Abstract: Internal Revenue Code section 6654(1) imposes a penalty on trusts, and in certain circumstances, a decedent's estate, for underpayment of estimated tax. Form 1041-ES is used by the fiduciary to make the estimated tax payments. For “first-time” filers, the form is available in an Over The Counter (OTC) version at IRS offices. For previous filers, the form is sent to them by the IRS with preprinted vouchers in the Optical Character Resolution (OCR) version.

Respondents: Private Sector: Businesses or other for-profits.

Estimated Total Burden Hours: 3,161,236 hours.

OMB Number: 1545-0056.

Type of Review: Extension without change to a currently approved collection.

Title: Form 1023, Application for Recognition of Exemption Under Section 501(c)(3) of the Internal Revenue Code.

Abstract: Form 1023 is filed by applicants seeking Federal income tax exemption as organization described in section 501(c)(3). IRS uses the information to determine if the applicant is exempt and whether the applicant is a private foundation.

Form: 1023.

Respondents: Private Sector: Not-for-profit institutions.

Estimated Total Burden Hours: 3,138,550 hours.

Bureau Clearance Officer: Allan Hopkins, Internal Revenue Service, 1111 Constitution Avenue, NW., Washington, DC 20224; (202) 622-6665

OMB Reviewer: Shagufta Ahmed, Office of Management and Budget, New Executive Office Building, Room 10235, Washington, DC 20503; (202) 395-7873

Celina Elphage,
Treasury PRA Clearance Officer.

[FR Doc. 2011-810 Filed 1-13-11; 8:45 am]

BILLING CODE 4830-01-P